DEPARTMENT OF ENERGY

Federal Energy Regulatory Commission

[Docket No. RP00-297-000]

Mississippi River Transmission Corporation; Notice of Filing of Refund Report

May 26, 2000.

Take notice that on May 23, 2000, Mississippi River Transmission Corporation (MRT) filed a refund report allocating to MRT's former firm sales customers an Account No. 858 refund amount MRT received from CMS Trunkline Gas Co. and Trunkline LNG Co., related the sale of these companies to an unaffiliated entity, CMS, and further related to the settlement in Docket Nos. RP87-15-036, RP92-122, et al.

MRT states that pursuant to 16.2 of the General Terms and Conditions of MRT's Tariff and based on established Account No. 191 and 858 allocations to its former jurisdictional sales customers, MRT is allocating to each customer its pro-rata share of the $174,657 refund.

MRT states that a copy of this filing is being mailed to each of MRT's customers and to the state commissions of Arkansas, Illinois and Missouri.

Any person desiring to be heard or to protest said filing should file a motion to intervene or a protest with the Federal Energy Regulatory Commission, 888 First Street, NE., Washington, DC 20426, in accordance with 385.214 or 385.211 of the Commission's Rules and Regulations. All such motions or protests must be filed on or before June 1, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-13777 Filed 6-1-00; 8:45 am]

BILLING CODE 6717-01-M